DEPARTMENT OF DEFENSE

Defense Acquisition Regulations System

Industry Implementation Information Day

AGENCY: Defense Acquisition Regulations System, Department of Defense (DoD).

ACTION: Notice of meeting.

SUMMARY: DoD is hosting an “Industry Implementation Information Day” to present a briefing on the implementation of DFARS Case 2013-D018, Network Penetration Reporting and Contracting for Cloud Services.

DATES: The public meeting will be held on December 14, 2015, from 9:00 a.m. to 12:00 p.m., EST. Registration to attend this meeting must be received by December 7, 2015.

ADDRESSES: The public meeting will be held at the Mark Center Auditorium, 4800 Mark Center Drive, Alexandria, VA 22350-3603. The auditorium is located on level B-1 of the building.

FOR FURTHER INFORMATION CONTACT: Ms. Mary Thomas, DPAP/PDI, at 703-693-7895.

SUPPLEMENTARY INFORMATION: DoD is holding an “Industry Implementation Information Day” to present a briefing on the implementation of DFARS Case 2013-D018, Network Penetration Reporting and Contracting for Cloud Services, and to address questions from industry with regard to its implementation.

Background: On August 26, 2015, DoD published an interim rule under DFARS Case 2013-D018 entitled “Network Penetration Reporting and Contracting for Cloud Services” (80 FR 51739) that amended the Defense Federal Acquisition Regulation Supplement (DFARS) to implement section 941 of the National Defense Authorization Act (NDAA) for Fiscal Year (FY) 2013 (Pub. L. 112-239), section 1632 of the NDAA for FY 2015, and DoD policy on the purchase of cloud computing services.

Registration: Individuals wishing to attend the public meeting should register by December 7, 2015, to facilitate entry to the meeting. Interested parties may register at this Web site, http://www.acq.osd.mil/dpap/dars/industry_implementation_information_day_12_2015.html, by providing the following information:

(1) Company or organization name.

(2) Names and email addresses of persons planning to attend.

One valid government-issued photo identification card will be required in order to enter the building. Attendees are encouraged to arrive at least 30 minutes early to accommodate security procedures. Public parking is not available at the Mark Center.

Special accommodations: The public meeting is physically accessible to people with disabilities. Requests for reasonable accommodations, sign language interpretation or other auxiliary aids should be directed to osd.dfars@mail.mil, no later than December 7, 2015.

Correspondence: Please cite “Industry Implementation Information Day” in all correspondence related to this public meeting.

Government procurement.

Jennifer L. Hawes,
Editor, Defense Acquisition Regulations System.

[FR Doc. 2015-29687 Filed 11-19-15; 8:45 am]

BILLING CODE 5001-06-P